ENVIRONMENTAL PROTECTION AGENCY

[EPA-HQ-OPP-2015-0386; FRL-9936-94]

Pesticide Registration Review; Draft Human Health and Ecological Risk Assessments for Certain Organophosphates; Extension of Comment Period

AGENCY: Environmental Protection Agency (EPA).

ACTION: Notice; extension of comment period.

SUMMARY: EPA issued a notice in the Federal Register of September 25, 2015, opening a comment period on draft human health and ecological risk assessments for certain organophosphate pesticides listed in the Table in this document, along with additional chemicals. This document extends the comment period by 45 days for just those chemicals listed in the Table in this document, i.e., from November 24, 2015 to January 8, 2016. This comment period is being extended in response to comments received by the Agency.

DATES: Comments, identified by docket identification (ID) numbers identified in the Table in this document, must be received on or before January 8, 2016.

ADDRESSES: Follow the detailed instructions provided under ADDRESSES in the Federal Register document of September 25, 2015 (80 FR 57812) (FRL-9933-68).

FOR FURTHER INFORMATION CONTACT: Persons listed with individual chemicals in the Table in this document.

SUPPLEMENTARY INFORMATION: This document extends the public comment period for certain chemicals established in the Federal Register document of September 25, 2015 (80 FR 57812) (FRL-9933-68). In that document, a public comment period opened on EPA's draft human health and ecological risk assessments for the registration review of certain members of a group of pesticides known collectively as organophosphates (see the following Table) and a number of other chemicals, which is set to end on November 24, 2015. EPA is hereby extending by 45 days the comment period for only those chemicals listed in the following Table, i.e., from November 24, 2015 to January 8, 2016.

Table—Chemicals With Extended Comment Period
Registration review case name and number | Docket ID No. | Chemical review manager and contact information
Chlorpyrifos-methyl, 8011 | EPA-HQ-OPP-2010-0119 | Dana L. Friedman, friedman.dana@epa.gov, (703) 347-8827.
Dicrotophos, 0145 | EPA-HQ-OPP-2008-0440 | Khue Nguyen, Nguyen.khue@epa.gov, 703-347-0248.
Dimethoate, 0088 | EPA-HQ-OPP-2009-0059 | Kelly Ballard, ballard.kelly@epa.gov, (703) 305-8126.
Ethoprop, 0106 | EPA-HQ-OPP-2008-0560 | Tracy Perry, perry.tracy@epa.gov, (703) 308-0128.
Profenofos, 2540 | EPA-HQ-OPP-2008-0345 | Christina Scheltema, scheltema.christina@epa.gov, (703) 308-2201.
Terbufos, 0109 | EPA-HQ-OPP-2008-0119 | Matthew Manupella, manupella.matthew@epa.gov, (703) 347-0411.
Tribufos, 2145 | EPA-HQ-OPP-2008-0883 | Marianne Mannix, mannix.marianne@epa.gov, (703) 347-0275.

To submit comments, or access the docket, please follow the detailed instructions provided under ADDRESSES in the Federal Register document of September 25, 2015. If you have questions on individual chemicals, consult the person listed in the Table.

Authority: 7 U.S.C. 136 et seq.

Dated: November 12, 2015.
Michael Goodis,
Acting Director, Pesticide Re-Evaluation Division, Office of Pesticide Programs.

[FR Doc. 2015-29690 Filed 11-19-15; 8:45 am]

BILLING CODE 6560-50-P